DEPARTMENT OF HOMELAND SECURITY

Federal Emergency Management Agency

[Docket ID: FEMA-2013-0047; OMB No. 1660-NEW]

Agency Information Collection Activities: Proposed Collection; Comment Request

AGENCY: Federal Emergency Management Agency, DHS.

ACTION: Notice.

SUMMARY: The Federal Emergency Management Agency, as part of its continuing effort to reduce paperwork and respondent burden, invites the general public and other Federal agencies to take this opportunity to comment on a new information collection. In accordance with the Paperwork Reduction Act of 1995, this notice seeks comments concerning the SalesForce Customer Relationship Management System.

DATES: Comments must be submitted on or before January 17, 2014.

ADDRESSES: To avoid duplicate submissions to the docket, please use only one of the following means to submit comments:

(1) Online. Submit comments at www.regulations.gov under Docket ID FEMA-2013-0047. Follow the instructions for submitting comments.

(2) Mail. Submit written comments to Docket Manager, Office of Chief Counsel, DHS/FEMA, 500 C Street SW., Room 835, Washington, DC 20472-3100.

(3) Facsimile. Submit comments to (703) 483-2999.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Contact Traci D. Crawford, Program Analyst, FEMA, Office of External Affairs, (202) 646-3164 for additional information. You may contact the Records Management Division for copies of the proposed collection of information at facsimile number (202) 646-3347 or email address: FEMA-Information-Collections-Management@dhs.gov.

SUPPLEMENTARY INFORMATION: FEMA Office of External Affairs, Public Affairs Division, is implementing the SalesForce Customer Relationship Management (CRM) system to improve the response to correspondences from individuals seeking information from a FEMA program office pursuant to Exec. Order No. 13411, which calls for improvements to the delivery of Federal disaster assistance by providing disaster survivors with “prompt and efficient access to Federal disaster assistance, as well as information regarding assistance available from State and local government and private sector sources.” The SalesForce CRM provides a centralized portal to manage frequently asked questions relating to Federal, State, local, and tribal information.

Collection of Information

Title: The SalesForce Customer Relationship Management System Web-form allowing an Individual to Submit Correspondence to FEMA.

OMB Number: 1660-NEW.

Type of Information Collection: New information collection.

FEMA Forms: None.

Abstract: FEMA correspondence teams respond to questions from individuals covering various topics. Depending on the topic searched, the CRM queries the database of pre-approved questions and answers. If the search result does not provide the desired answer, the citizen is provided a link to the web-form to submit their inquiry (i.e. question/comment) to the proper component (i.e. program office) for a response. In general, a citizen's inquiry may range from publications requests, how to apply for grants, or reimbursement criterion. The minimal collection of Personally Identifiable Information (PII) is necessary for FEMA correspondence teams to carry out their mission of responding to citizens who seek assistance.

Affected Public: Individuals or households; Business or other for-profit; Not-for-profit institutions; Farms; Federal Government; State, Local, Tribal Government.

Number of Respondents: 25,000.

Number of Responses: 25,000.

Estimated Total Annual Burden Hours: 833 hours.

Estimated Annualized Burden Hours and Costs
Type of respondent | Form name/form number | Number of respondents | Number of responses per respondent | Total number of responses | Average burden per response (in hours) | Total annual burden (in hours) | Average hourly wage rate | Total annual respondent cost
Individuals or households; Business or other for-profit; Not-for-profit institutions; Farms; Federal Government; State, Local, Tribal Government | SalesForce /No Form | 25,000 | 1 | 25,000 | 0.0333 (2 mins.) | 833 | $30.81 | $25,664.73
Total |  | 25,000 |  | 25,000 |  | 833 |  | $25,664.73
• Note: The “Avg. Hourly Wage Rate” for each respondent includes a 1.4 multiplier to reflect a fully-loaded wage rate.

Estimated Cost: The estimated annual cost to respondents for the hour burden is $25,664.73. There are no annual costs to respondents operations and maintenance costs for technical services. There is no annual start-up or capital costs. The cost to the Federal Government is $645,008.00.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: November 8, 2013.
Charlene D. Myrthil,
Director, Records Management Division, Mission Support Bureau, Federal Emergency Management Agency, Department of Homeland Security.

[FR Doc. 2013-27494 Filed 11-15-13; 8:45 am]

BILLING CODE 9111-22-P